DEPARTMENT OF LABOR

Employment and Training Administration

Investigations Regarding Certifications of Eligibility to Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of P.L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than April 15, 2002.

Also, interested persons are invited to submit written comments regarding the subject matter of the petitions to the Director of DTAA at the address shown below not later than April 15, 2002.

Petitions filed with the Governors are available for inspection at the Office of the Director, DTAA, ETA, DOL, Room C-5311, 200 Constitution Avenue, NW., Washington, DC 20210.

Signed at Washington, DC this 29 day of March 2002.
Edward A. Tomchick,
Director, Division of Trade Adjustment Assistance.

Appendix
Subject firm | Location | Date received at Governor's office | Petition No. | Articles produced
J. Allen Steel (USWA) | Pittsburgh, PA | 02/22/2002 | NAFTA-5,870 | steel beams.
OSRAM Sylvania (Wkrs) | Winchester, KY | 02/15/2002 | NAFTA-5,871 | Halogen quartz capsules.
Trinity Rail Group (Wkrs) | Clinton, IL | 02/22/2002 | NAFTA-5,872 | railcards.
Precision Kidd Steel (Co.) | Aliquippa, PA | 02/22/2002 | NAFTA-5,873 | cold finished steel bar and wire.
Bestform (Wkrs) | Windber, PA | 02/19/2002 | NAFTA-5,874 | intimate apparel.
C.G. Bretting (IAMAW) | Ashlord, WI | 02/19/2002 | NAFTA-5,875 | machinery.
Lamb Technicon (UAW) | Warren, MI | 02/19/2002 | NAFTA-5,876 | custom machine tools.
NIBCO, Inc. (Co.) | S. Glen Falls, NY | 12/19/2001 | NAFTA-5,877 | brass plumbing fittings.
Fab Mac, LLC (Co.) | Drain, OR | 02/18/2002 | NAFTA-5,878 | golf components.
Conagra Grocery Products (UFCW) | Milton, PA | 02/20/2002 | NAFTA-5,879 | can foods.
Victaulic Co. of America (USWA) | Easton, PA | 02/20/2002 | NAFTA-5,880 | coupling and pipe fittings.
Marathon Electric (IBEW) | Wausau, WI | 02/19/2002 | NAFTA-5,881 | electric motors generators.
Marathon Elc—Regal Behiot (Wkrs) | West Plains, MO | 02/15/2002 | NAFTA-5,882 | electric motors.
Midwest International (Wkrs) | Stanberry, MO | 02/20/2002 | NAFTA-5,883 | flex plate assembly.
Boeing Corporation (UAW) | Long Beach, CA | 02/05/2002 | NAFTA-5,884 | military transport air craft components.
Price Pfister (Wkrs) | Pacomia, CA | 02/06/2002 | NAFTA-5,885 | faucets and hardware.
Trinity Industries (Wkrs) | Springfield, MO | 02/15/2002 | NAFTA-5,886 | railroad cars.
Vertiflex Product (Co.) | Irwindale, CA | 02/15/2002 | NAFTA-5,887 | computer furniture.
Pillowtex (Co.) | Tarboro, NC | 02/15/2002 | NAFTA-5,888 | yarn.
Trailmobile, LLC (PACE) | Charlestown, IL | 02/20/2002 | NAFTA-5,889 | semi trailers.
Kraft Foods (Co.) | Holland, MI | 02/13/2002 | NAFTA-5,890 | lifesavers hard candy and mints.
Fort Dearborn (Wkrs) | Coldwater, MI | 02/14/2002 | NAFTA-5,891 | paper labels.
Garvin Industrial (Wkrs) | Grand Haven, MI | 02/22/2002 | NAFTA-5,892 | metal stampings.
Metso Minerals (PACE) | Clintonville, WI | 02/21/2002 | NAFTA-5,893 | bulk materials conveyers.
Puget Sound Energy (Wkrs) | Bellevue, WA | 02/22/2002 | NAFTA-5,894 | energy system infrastructures.
Jabil Circuit (Wkrs) | Meridian, ID | 02/01/2002 | NAFTA-5,895 | circuit boards.
Brach's Confections (Co.) | Chicago, IL | 02/25/2002 | NAFTA-5,896 | candy.
ITW Jemco (Wkrs) | Minooka, IL | 02/13/2002 | NAFTA-5, 897 | lamps and switches.
R.C.M. Mfg. (UNITE) | Fall River, MA | 02/22/2002 | NAFTA-5, 898 | women's and children's coats.
Renfro Corporation (Wkrs) | Star, NC | 02/25/2002 | NAFTA-5, 899 | children's socks.
Johnston and Murphy (Co.) | Nashville, TN | 02/25/2002 | NAFTA-5, 900 | welted men's shoes.
Dawson Furniture (Co.) | SWebb City, MO | 02/25/2002 | NAFTA-5, 901 | solid wood household furniture.
ASSA Ablow Door Group LLC (Wkrs) | Harlingen, TX | 01/17/2002 | NAFTA-5, 902 | industrial metal doors and frames.
Bacou Dalloz (Co.) | Reading, PA | 02/22/2002 | NAFTA-5, 903 | protective respiratory equipment.
Bacou Dalloz (Co.) | Snow Hill, NC | 02/20/2002 | NAFTA-5, 904 | non-respiratory protective equipment.
Laclede Steel (USWA) | Fairless Mills, PA | 02/20/2002 | NAFTA-5, 905 | pipe products.
Laclede Steel (USWA) | Alton, IL | 02/14/2002 | NAFTA-5, 906 | pipe products.
Lee Fashion Fabrics (Co.) | Gloversville, NY | 07/24/2001 | NAFTA-5, 907 | Apparel Fabric.
Lee Dyeing Co. of North America (Co.) | Gloversville, NY | 07/24/2001 | NAFTA-5, 907 | Apparel Fabrics.
TRW, Inc. (Co.) | Cookville, TN | 02/25/2002 | NAFTA-5, 908 | head curtain bags.
Volk Packaging (Co.) | Biddeford, ME | 02/28/2002 | NAFTA-5, 909 | corrugated box.
Liebert (Co.) | Delaware, OH | 03/01/2002 | NAFTA-5, 910 | exchange cabinet.
Modine Manufacturing (Co.) | LaPorte, IN | 02/28/2002 | NAFTA-5, 911 | radiators.
Timesavers (IBT) | Minnesota, MN | 07/28/2002 | NAFTA-5, 912 | large speedbelt sanders.
JDS Uniphase (Wkrs) | Bloomfield, CT | 02/21/2002 | NAFTA-5, 913 | switch products.
Cedar Hill (Co.) | Ansonville, NC | 02/28/2002 | NAFTA-5, 914 | t-shirts, sweatshirts, knit tops.
Greenbrier Company (The)—Gunderson (Wkrs) | Portland, OR | 02/26/2002 | NAFTA-5, 915 | welding and painters.
Seigel Robert of Arkansas (Wkrs) | Wilson, AR | 02/28/2002 | NAFTA-5, 916 | plastic automotive parts.
Kraft Foods (Co.) | Minneapolis, MN | 02/26/2002 | NAFTA-5, 917 | gelatins.
Britax Heath Tecna (Wkrs) | Bellingham, WA | 02/19/2002 | NAFTA-5, 918 | aircraft interiors.
Sonoco Products (Co.) | Lincolnton, NC | 02/26/2002 | NAFTA-5, 919 | fabric and carpet yarn.
Spectra Products (Co.) | Grand Haven, MI | 02/26/2002 | NAFTA-5, 920 | fabricated wood and metal parts.
Devant, LTD (Co.) | Monroe, NC | 02/25/2002 | NAFTA-5, 921 | terrycloth towels.
Gates Rubber Company (USWA) | Galesburg, IL | 02/27/2002 | NAFTA-5,922 | hydraulic and industrial hose.
David White (Wkrs) | Berlin, WI | 02/21/2002 | NAFTA-5,923 | tripod rod.
Takata Restraint Systems (Co.) | Cheraw, SC | 02/27/2002 | NAFTA-5,924 | air bag restraint systems.
Master Lock (UAW) | Milwaukee, WI | 01/05/2002 | NAFTA-5,925 | laminated locks and combination locks.
Jordan Lumber and Supply (Co.) | Mt. Gilead, NC | 02/25/2002 | NAFTA-5,926 | lumber.
Doerun Sportswear (Co.) | Doerun, GA | 02/26/2002 | NAFTA-5,927 | apparel.
Perkinelmer Life Sciences (Co.) | Beltsville, MD | 01/22/2002 | NAFTA-5,928 | cloned receptors.
Oxford Automotive (Co.) | Oscoda, MI | 01/02/2002 | NAFTA-5,929 | automotive metal stampings.
Siemens VDO Automotive Co. | Winchester, VA | 03/05/2002 | NAFTA-5,930 | fuel systems.
Hewmet Castings (Wkrs) | Wichita Falls, TX | 03/08/2002 | NAFTA-5,931 | turbo components.
ADC Telecommunications (Wkrs) | LeSueur, MN | 03/07/2002 | NAFTA-5,932 | telecommunication.
Condial Corporation (Wkrs) | Charlottesville, VA | 03/07/2002 | NAFTA-5,933 | telephones and phone systems.
Sheldahl (Wkrs) | Horthfield, MN | 02/27/2002 | NAFTA-5,934 | flexible circuitry.
Metso Minerals Industries (GMP) | Birmingham, AL | 03/06/2002 | NAFTA-5,935 | pump parts & casting for Crushing equip.
Metso Minerals Industrials (IAM) | Appleton, WI | 03/06/2002 | NAFTA-5,936 | stone crushing & screening equipment.
Denso Sales California (Co.) | Long Beach, CA | 03/05/2002 | NAFTA-5,937 | automotive tuba, hoses & air conditioning.
York International (Co.) | Blyria, OH | 03/06/2002 | NAFTA-5,938 | heating and air conditioning products.
Tractech, Inc. (Wkrs) | Warren, MI | 03/04/2002 | NAFTA-5,939 | differentials.
Vision Metals (USWA) | Lynn, MI | 03/06/2002 | NAFTA-5,940 | steel tubing.
Basf (Wkrs) | Wyandotte, MI | 03/06/2002 | NAFTA-5,941 | vitamins.
BBI Enterprises (UAW) | Alpena, MI | 03/06/2002 | NAFTA-5,942 | thermal molded insulator products.
Steltze Aspen Mills (Wkrs) | Colombia, MT | 03/06/2002 | NAFTA-5,943 | landscape timbers.
Invensys Climate Controls (Co.) | Brownsville, TX | 03/05/2002 | NAFTA-5,944 | plastic moldings parts.
Dunham Bush (Co.) | Harrison, VA | 01/30/2002 | NAFTA-5,945 | heating units.
Modern Tool and Die (Wkrs) | Indianola, MS | 02/28/2002 | NAFTA-5,946 | press and tubing fabrication.
Limited Edition Shirt (Co.) | Ranshaw, PA | 03/08/2002 | NAFTA-5,947 | uniforms and security shirts.
Textile Parts and Machine (Wkrs) | Gastonia, NC | 03/04/2002 | NAFTA-5,948 | machine parts.
Schaeff (Wkrs) | Sioux City, IA | 03/04/2002 | NAFTA-5,949 | electric stand up forklifts.
Beacon Blankets (Wkrs) | Swannanoa, NC | 03/05/2002 | NAFTA-5,950 | acrylic, cotton woven blankets.
Solid Wood (Co.) | Olympia, WA | 03/05/2002 | NAFTA-5,951 | Softwood and hardwood green veneer.
Abitibi Consolidated (PACE) | Lufkin, TX | 03/11/2002 | NAFTA-5,952 | paper products.
Honeywell (Wkrs) | Elyria, OH | 03/13/2002 | NAFTA-5,953 | truck brake system.
F.L. & J.C. Codman Co. ( ) | Rockland, MA | 03/13/2002 | NAFTA-5,954 | special machinery used for automotive.
Swanson-Erie Corporation ( ) | Erie, PA | 03/14/2002 | NAFTA-5,955 | automatic assembly equipment.
Process Mfg., Inc. (wkr) | Richmond, KY | 03/14/2002 | NAFTA-5,956 | automotive metal stamping dies.
Alliant Techsystems Inc. ( ) | Radford, VA | 03/13/2002 | NAFTA-5,957 | M-14 propellant.
Wellman Thermal Systems, Inc. (Compa) | Shelbyville, IN | 03/14/2002 | NAFTA-5,958 | heating elements.
Gem-Dandy Inc (worke) | Madison, NC | 03/15/2002 | NAFTA-5,959 | belts, wallets and suspenders.
LUWA Bahnson (wkrs) | Charlotte, NC | 03/15/2002 | NAFTA-5,960 | air filtration equipment.
A.O. Smith Corp. (wkrs) | McMinnville, TN | 03/15/2002 | NAFTA-5,961 | fractional horsepower design engineering.
Parksley Apparel (wkr) | Parksley, VA | 03/14/2002 | NAFTA-5,962 | women's blouses.
Valeo Climate Control (N/A) | Grand Prairie, TX | 03/18/2002 | NAFTA-5,963 | automatic air conditioning condensers.
Levolor Kirsch Window Fashions (NA) | Shamokin, PA | 03/14/2002 | NAFTA-5,964 | metal mini-blinds and rollershades.
Intertape Polymer (Compa) | Marysville, MI | 03/15/2002 | NAFTA-5,965 | automotive masking and stamping tape.
Bristol Tank & Welding Co, Inc. (Compa) | Langhorne, PA | 03/14/2002 | NAFTA-5,966 | fuel oil tanks.
Simmons Foods, Inc. (NA) | McAlester, OK | 03/14/2002 | NAFTA-5,967 | chicken.
Hutchinson Sealing Systems, Inc. (Compa) | Newfields, NH | 03/06/2002 | NAFTA-5,968 | automobile sealing systems.
General Electric (Compa) | Somersworth, NH | 03/14/2002 | NAFTA-5,969 | transformers.
Penn-Union Corp ( ) | Edinboro, PA | 03/18/2002 | NAFTA-5,970 | electrical connector components.
Spring Food Industries (NA) | Spindale, NC | 03/18/2002 | NAFTA-5,971 | T shirts.
Diesel Recon (NA) | Charleston, SC | 3/18/2002 | NAFTA-5,972 | gas and diesel remanufactured engines.
Xerox Corporation (Compa) | El Sequndo, CA | 3/18/2002 | NAFTA-5,973 | printed wiring board.
Quality Component, Inc. (N/A) | Klamath Falls, OR | 3/18/2002 | NAFTA-5,974 | metal fabricated connectors.
S.D. Warren Company/Sappi Fine Paper ( ) | Skowhegan, ME | 3/18/2002 | NAFTA-5,975 | Coated Paper.
Tuscarora Yarns, Inc (Comp) | Kinston, NC | 3/18/2002 | NAFTA-5,976 | Yarn.
Progress Lighting (IBEW) | Philadelphia, PA | 3/12/2002 | NAFTA-5,977 | Lighting Fixtures.
Fourply, Inc (Comp) | Grants Pass, OR | 3/11/2002 | NAFTA-5,978 | Plywood.
Erie Forge and Steel (USWA) | Erie, PA | 3/08/2002 | NAFTA-5,979 | Raw Steel, Billets, Ingots.
Jantzen, Inc (Comp) | Portland, OR | 3/11/2002 | NAFTA-5,980 | Ladies' Swimwear.
Truman Logging, Inc (Comp) | Rexford, MT | 3/18/2002 | NAFTA-5,982 | Logs.
Blough-Wagner Manufacturing (Comp) | Middleburg, PA | 3/13/2002 | NAFTA-5,982 | Ladies' Knitwear.
Freightliner (Worke) | Cleveland, NC | 3/18/2002 | NAFTA-5,983 | Trucks.
Mansfield Plumbing Products | Kilgore, TX | 3/12/2002 | NAFTA-5,984 | Plumbing Fixtures.
Gulfstream Aerospace Technologies (UAW) | Oklahoma City, OK | 3/18/2002 | NAFTA-5,985 | Aircraft.
Nice Ball Bearings, Inc (USWA) | Kulpsville, PA | 3/13/2002 | NAFTA-5,986 | Ball Bearings.
Alco Lebanon Works (wkr) | Lebanon, PA | 3/13/2002 | NAFTA-5,987 | light gage steel and foil.
Douglas Furniture of California, LLC (Compa) | Rendono, CA | 3/08/2002 | NAFTA-5,988 | furniture.
Specialty UltraVision, Inc. (N/A) | Campbell, CA | 3/04/2002 | NAFTA-5,989 | contact lenses.
Optek Technology, Inc. (Compa) | Carrollton, TX | 3/25/2002 | NAFTA-5,990 | electronic components.
TNS Mills, Inc. (N/A) | Rockingham, NC | 3/18/2002 | NAFTA-5,991 | textile yarn.
Spring Ford Industries (Wkrs) | Gatonia, NC | 3/21/2002 | NAFTA-5,992 | beaching fabric.
Spring Food Industries (Wkrs) | Rutherfordton, NC | 3/20/2002 | NAFTA-5,993 | knit t-shirts.
Lucent Technologies | Eugene, OR | 3/21/2002 | NAFTA-5,994 | electronic switches.
Emerson Tool (IBU) | Manominee, MI | 03/22/2002 | NAFT-5,995 | vacuum cleaners.
Riverside Paper-Kerwin Paper Mill (PACE) | Kensington Appleton, WI | 03/20/2002 | NAFTA-5,996 | groundwood construction paper.

[FR Doc. 02-8266 Filed 4-4-02; 8:45 am]

BILLING CODE 4510-30-M